DEPARTMENT OF TRANSPORTATION

Federal Aviation Administration

14 CFR Part 71

[Airspace Docket No. 00-AAL-02]

RIN: 2120-AA66

Establishment of VOR Federal Airway; AK

AGENCY: Federal Aviation Administration (FAA), DOT.

ACTION: Final rule.

SUMMARY: This action establishes a Very High Frequency Omnidirectional Range (VOR) Federal airway (V-457) in Alaska. The FAA is establishing this Federal airway for the following reasons: (1) The conversion of this uncharted nonregulatory route to a VOR Federal airway will add to the instrument flight rules (IFR) airway and route infrastructure in Alaska; (2) pilots will be provided with minimum en route altitudes and minimum obstruction clearance altitudes information; (3) this amendment establishes controlled airspace, thus eliminating some of the commercial IFR operations in uncontrolled airspace; and (4) the addition of this route improves the management of air traffic operations and thereby enhances safety.

EFFECTIVE DATE: 0901 UTC, January 25, 2001.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Background

On June 28, 2000, the FAA proposed to amend Title 14 of the Code of Federal Regulations part 71 (part 71) to establish VOR Federal Airway, V-457, in Alaska (65 FR 39834). Interested parties were invited to participate in this rulemaking proceeding by submitting written comments on the proposal to the FAA. No comments objecting to the proposal were received.

The Rule

This action amends part 71 by establishing VOR Federal Airway V-457 in Alaska. Presently, there is an uncharted nonregulatory route using the same routings as the V-457 which becomes effective January 25, 2001. The FAA is establishing V-457 for the following reasons: (1) The conversion of this uncharted nonregulatory route to a VOR Federal airway adds to the IFR airway and route infrastructure in Alaska; (2) pilots will be provided with minimum en route altitudes and minimum obstruction clearance altitudes information; (3) this amendment establishes controlled airspace, thus eliminating some of the commercial IFR operations in uncontrolled airspace; and (4) the addition of this route improves the management of air traffic operations and thereby enhance safety.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Alaskan VOR Federal airways are published in paragraph 6010(b) of FAA Order 7400.9H dated September 1, 2000, and effective September 16, 2000, which is incorporated by reference in 14 CFR 71.1. The Alaskan VOR Federal airway listed in this document will be published subsequently in the order.

List of Subjects in 14 CFR Part 71

Airspace, Incorporation by reference, Navigation (air).

The Rule

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9H, Airspace Designations and Reporting Points, dated September 1, 2000, and effective September 16, 2000, is amended as follows:

Paragraph 6010(b) Alaskan VOR Federal Airways

* * * * *

V-457 [New]

From Iliamna, AK, NDB; to Kenai, AK.

* * * * *

Issued in Washington, DC, on November 15, 2000.
Reginald C. Matthews,
Manager, Airspace and Rules Division.

[FR Doc. 00-29906 Filed 11-21-00; 8:45 am]

BILLING CODE 4910-13-P